DEPARTMENT OF JUSTICE

Antitrust Division

Notice Pursuant to the National Cooperative Research and Production Act of 1993—Gaming Standards Association

Notice is hereby given that, on August 16, 2004, pursuant to section 6(a) of the National Cooperative Research and Production Act of 1993, 15 U.S.C. 4301 et seq. (“the Act”), the Gaming Standards Association (“GSA”) has filed written notifications simultaneously with the Attorney General and the Federal Trade Commission disclosing changes in its membership status. The notifications were filed for the purpose of extending the Act's provisions limiting the recovery of antitrust plaintiffs to actual damages under specified circumstances. Specifically, Boss Media AB, Vaxjo, SWEDEN; Corey Investments, LTD, N. Huntington, PA; Densitron Technologies, Plc, Biggin Hill, Kent, UNITED KINGDOM; E-Genting Sdn Bhd, Kuala Lumpur, W. Persekutuan, MALAYSIA; GameLogic, Inc., Cambridge, MA; Greektown Casino, Detroit, MI; Ontario Lottery and Gaming Corporation, Toronto, Ontario, CANADA; Quest Entertainment, Inc., Houston, TX; Summit Amusement & Distributing, Ltd., Billings, MT; Video Gaming Technologies, Inc., Roebuck, SC; and Viejas Casino, Alpine, CA have been added as parties to this venture.

No other changes have been made in either the membership or planned activity of the group research project. Membership in this group research project remains open, and GSA intends to file additional written notification disclosing all changes in membership.

On March 6, 2003, GSA filed its original notification pursuant to section 6(a) of the Act. The Department of Justice published a notice in the Federal Register pursuant to section 6(b) of the Act on April 1, 2003 (68 FR 15743).

The last notification was filed with the Department on May 7, 2004. A notice was published in the Federal Register pursuant to section 6(b) of the Act on June 25, 2004 (69 FR 35678).

Dorothy B. Fountain,
Deputy Director of Operations, Antitrust Division.

[FR Doc. 04-22159 Filed 10-1-04; 8:45 am]

BILLING CODE 4410-11-M